DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420, Assistant Director for Sanctions Compliance & Evaluation, tel.: 202-622-2490, Assistant Director for Licensing, tel.: 202-622-2480; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available from OFAC's Web site (www.treasury.gov/ofac).

Notice of OFAC Actions

On September 6, 2017, OFAC determined that the property and interests in property subject to U.S. jurisdiction of the following persons are blocked under the relevant sanctions authorities listed below:

Individuals

RIAK RENGU, Malek Reuben (a.k.a. REUBEN, Malek; a.k.a. RUBEN, Malek), Juba, South Sudan; DOB 01 Jan 1960; POB Yei, South Sudan; nationality South Sudan; Gender Male; Passport S00001537 (South Sudan); alt. Passport B0810167 (Sudan); Personal ID Card M6000000000817 (South Sudan); Deputy Chief of Defense Force and Inspector General of the Sudan People's Liberation Army; First Lieutenant General (individual) [SOUTH SUDAN].

Designated pursuant to section 1(a)(i) of Executive Order 13664 of April 3, 2014, “Blocking Property of Certain Persons With Respect to South Sudan” (E.O. 13664) for being responsible for or complicit in, or having engaged in, directly or indirectly, in or in relation to South Sudan: (1) Actions or policies that threaten the peace, security, or stability of South Sudan; and (2) actions or policies that have the purpose or effect of expanding or extending the conflict in South Sudan or obstructing reconciliation or peace talks or processes.

LUETH, Michael Makuei (a.k.a. LUETH, Michael Makwei; a.k.a. MAKUEI, Michael; a.k.a. MAKUEI, Michael Makuei Lueth), Juba, South Sudan; DOB 1947; POB Bor, South Sudan; alt. POB Bor, Sudan; nationality South Sudan; alt. nationality Sudan; alt. nationality Kenya; Gender Male; Minister of Information and Broadcasting; Minister of Information, Broadcasting, Telecommunication and Postal Services; Government Spokesperson (individual) [SOUTH SUDAN].

Designated pursuant to section 1(a)(i) of Executive Order 13664 of April 3, 2014, “Blocking Property of Certain Persons With Respect to South Sudan” (E.O. 13664) for being responsible for or complicit in, or having engaged in, directly or indirectly, in or in relation to South Sudan: (1) Actions or policies that have the purpose or effect of expanding or extending the conflict in South Sudan or obstructing reconciliation or peace talks or processes; (2) obstruction of the activities of international peacekeeping, diplomatic, or humanitarian missions in South Sudan, or of the delivery or distribution of, or access to, humanitarian assistance; and (3) attacks against United Nations missions, international security presences, or other peacekeeping operations;

AWAN, Paul Malong (a.k.a. ANEI, Paul Malong Awan; a.k.a. MALONG, Bol; a.k.a. MALONG, Paul; a.k.a. MALONG, Paul Awan), Warawar, Aweil County, Northern Bahr el-Ghazal, South Sudan; Juba, South Sudan; Kampala, Uganda; Addis Ababa, Ethiopia; P.O. Box 73699, Nairobi 00200, Kenya; DOB 02 Jan 1962; alt. DOB 04 Dec 1960; alt. DOB 12 Apr 1960; alt. DOB 30 Jan 1960; POB Malualkon, Sudan; alt. POB Malualkon, South Sudan; alt. POB Warawar, Sudan; alt. POB Warawar, South Sudan; nationality South Sudan; alt. nationality Uganda; Gender Male; Passport S00004370 (South Sudan); alt. Passport D00001369 (South Sudan); alt. Passport 003606 (Sudan); alt. Passport 00606 (Sudan); alt. Passport B002606 (Sudan); Former Sudan People's Liberation Army Chief of General Staff (individual) [SOUTH SUDAN].

Designated pursuant to section 1(a)(i) of Executive Order 13664 of April 3, 2014, “Blocking Property of Certain Persons With Respect to South Sudan” (E.O. 13664) for being responsible for or complicit in, or having engaged in, directly or indirectly, in or in relation to South Sudan: (A) Actions or policies that threaten the peace, security, or stability of South Sudan; (B) actions or policies that have the purpose or effect of expanding or extending the conflict in South Sudan or obstructing reconciliation or peace talks or processes; and (C) obstruction of the activities of international peacekeeping, diplomatic, or humanitarian missions in South Sudan, or of the delivery or distribution of, or access to, humanitarian assistance.

Entities

ALL ENERGY INVESTMENTS LTD, Juba, South Sudan [SOUTH SUDAN].

Designated pursuant to section 1(a)(iv)(B) of Executive Order 13664 of April 3, 2014, “Blocking Property of Certain Persons With Respect to South Sudan” (E.O. 13664) for being owned or controlled by, directly or indirectly, RIAK RENGU, Malek Reuben, a person whose property and interests in property are blocked pursuant to E.O. 13664.

A+ ENGINEERING, ELECTRONICS & MEDIA PRINTING CO. LTD., Tongping, Juba, Central Equatorial State, South Sudan; Tax ID No. 1100214326 (South Sudan); Commercial Registry Number 11045 (South Sudan) [SOUTH SUDAN]SUDAN].

Designated pursuant to section 1(a)(iv)(B) of Executive Order 13664 of April 3, 2014, “Blocking Property of Certain Persons With Respect to South Sudan” (E.O. 13664) for being owned or controlled by, directly or indirectly, RIAK RENGU, Malek Reuben, a person whose property and interests in property are blocked pursuant to E.O. 13664.

MAK INTERNATIONAL SERVICES CO LTD (a.k.a. MAK INTERNATIONAL SERVICE CO LTD; a.k.a. “MAK INTERNATIONAL”), Juba, South Sudan [SOUTH SUDAN].

Designated pursuant to section 1(a)(iv)(B) of Executive Order 13664 of April 3, 2014, “Blocking Property of Certain Persons With Respect to South Sudan” (E.O. 13664) for being owned or controlled by, directly or indirectly, RIAK RENGU, Malek Reuben, a person whose property and interests in property are blocked pursuant to E.O. 13664.

Dated: September 6, 2017.
John E. Smith,
Director, Office of Foreign Assets Control.

[FR Doc. 2017-19243 Filed 9-11-17; 8:45 am]

BILLING CODE 4810-AL-P